DEPARTMENT OF TRANSPORTATION

Federal Aviation Administration

14 CFR Part 73

[Docket No. FAA-2009-1050; Airspace Docket No. 09-ASW-3]

RIN 2120-AA66

Proposed Amendment to and Establishment of Restricted Areas and Other Special Use Airspace; Razorback Range Airspace Complex, AR

AGENCY: Federal Aviation Administration (FAA), DOT.

ACTION: Notice of proposed rulemaking (NPRM).

SUMMARY: This action proposes to restructure the restricted areas and other special use airspace (SUA) located in the vicinity of Fort Chaffee, AR. The Air National Guard (ANG) requested these modifications to the Razorback Range Airspace Complex, by establishing two new restricted areas, renaming an existing restricted area, and amending the boundaries section of the legal description of the Hog High North military operation area (MOA) that is contained in the airspace complex. Unlike restricted areas which are designated under Title 14 Code of Federal Regulations (14 CFR) part 73, MOAs are not rulemaking airspace actions. However, since the proposed R-2402B infringes on the Hog High North MOA, the FAA is including a discussion of the Hog High North MOA change in this NPRM. The ANG requested these airspace changes to permit more realistic aircrew training in modern tactics to be conducted in the Razorback Range Airspace Complex and to enable more efficient use of the National Airspace System (NAS).

DATES: Comments must be received on or before May 14, 2010.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2009-1050 and Airspace Docket No. 09-ASW-3 at the beginning of your comments. You may also submit comments through the Internet at http://www.regulations.gov.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2009-1050 and Airspace Docket No. 09-ASW-3) and be submitted in triplicate to the Federal Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2009-1050 and Airspace Docket No. 09-ASW-3.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's web page at http://www.faa.gov/airports_airtraffic/air_traffic/publications/airspace_amendments/.

You may review the public docket containing the proposal, any comments received, and any final disposition in person in the Federal Docket Management System Office (see ADDRESSES section for address and phone number) between 9 a.m. and 5 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The special use airspace of the Razorback Range Airspace Complex includes restricted areas and MOAs. Restricted areas are regulatory airspace areas that are designated under 14 CFR part 73 rulemaking procedures to contain activities that may present a hazard to nonparticipating aircraft including ground-based and air-delivered weapons employment. No person may operate an aircraft within a restricted area without the advance permission of the using or controlling agency.

The Razorback Range Airspace Complex MOAs are used primarily as maneuvering areas for aircraft conducting air-to-ground and air-to-air training scenarios and may be used in conjunction with the existing restricted areas. MOAs are nonregulatory airspace areas that are established administratively and published in the NFDD. MOAs are established to segregate non-hazardous military flight activities from aircraft operating in accordance with instrument flight rules (IFR), and to advise pilots flying under visual flight rules (VFR) where these activities are conducted. IFR aircraft may be routed through an active MOA only when air traffic control can provide approved separation from the MOA activity. VFR pilots are not restricted from flying in an active MOA, but are advised to exercise caution while doing so. Normally, MOA proposals are not published in an NPRM but, instead, are advertised for public comment through a nonrule circular distributed by the FAA Service Center office to aviation interests in the affected area. When a nonrulemaking action is an integral part of a rulemaking action, FAA procedures allow for the nonrulemaking proposal to be included in the NPRM. Since the proposed restricted area R-2402B infringes on the Hog High North MOA, the FAA is including a description of the Hog High North MOA amendment in this NPRM. Comments on the proposed MOA change may also be submitted as indicated above in the “Comments Invited” section of this NPRM.

The ANG requested modifications to the Razorback Range Airspace Complex to better support essential air-to-ground weapons delivery profiles and advanced tactical training requirements. Driving the request are the technological advances that have been made in aircraft targeting systems that allow accurate weapons delivery from higher altitudes and greater distances from the target. The dimensions of the Razorback Range restricted area (R-2402) have not changed in decades and cannot accommodate the requirements of the modern combat tactics and increased capabilities of today's fighter aircraft. This airspace shortfall resulted in the request for additional restricted airspace at the Razorback Range. The proposed restricted areas, if approved, would accommodate the ANG's training requirements to perform combat missions such as Close Air Support, Destruction of Enemy Air Defenses, Combat Search and Recovery, Time Sensitive Targeting, and Forward Air Controller—Airborne during day and night time conditions.

While the Razorback Range supports training in low to medium altitudes, the lateral boundary of the range's existing restricted area is inadequate for training at medium to high altitudes. The restricted areas R-2402B and R-2402C, as proposed, would expand the lateral boundaries of the Razorback Range restricted area airspace approximately five nautical miles north and east of R-2402, and approximately three nautical miles south of R-2402 into the Hog High North MOA. If approved, the proposed airspace will provide the maneuvering airspace needed to permit air-to-ground training in various tactics that are being used in combat today.

The vertical and lateral boundaries of the Hog High North MOA will not change as a result of this airspace action. However, since the proposed R-2402B restricted area penetrates the MOA, the legal description will be amended to exclude R-2402B when the restricted area is active.

The Razorback Range Airspace Complex is, and will remain, designated as “joint-use” airspace. This means that, during periods when the airspace complex, or parts of the complex, are not needed by the using agency for its designated purposes, the airspace will be returned to the controlling agency for access by other NAS users. The Memphis Air Route Traffic Control Center (ARTCC) is the controlling agency for the Razorback Range Airspace Complex.

The Proposed MOA Change

The FAA is proposing an amendment to the Hog High North MOA boundaries section of the legal description to exclude the proposed restricted area R-2402B, which overlaps airspace with the MOA, when that restricted area is active. The altitude and time of use descriptions for Hog High North MOA will remain unchanged. This change would prevent airspace conflict with the overlapping proposed R-2402B.

Hog High North MOA, AR [Amended]

By removing the current boundaries description and substituting the following: Boundaries. Beginning at lat. 35°13′50″ N., long. 94°12′01″ W.; to lat. 35°11′33″ N., long. 94°12′01″ W.; thence east along Arkansas State Highway 10 to lat. 35°10′20″ N., long. 94°01′01″ W.; to lat. 35°15′00″ N., long. 94°01′01″ W.; to lat. 35°05′00″ N., long. 93°34′01″ W.; at lat. 34°51′00″ N., long. 93°25′01″ W.; to lat. 34°38′12″ N., long. 93°31′18″ W.; to lat. 34°41′30″ N., long. 93°45′53″ W.; to lat. 34°40′58″ N., long. 93°50′18″ W.; to lat. 34°47′19″ N., long. 94°26′52″ W.; to lat. 34°55′00″ N., long. 94°23′08″ W.; to lat. 35°05′31″ N., long. 94°17′57″ W.; to the point of beginning, excluding R-2402B when active.

The MOA change described here will also be published in the National Flight Data Digest (NFDD).

The Restricted Area Proposal

The FAA is proposing an amendment to 14 CFR part 73 to expand the restricted area airspace at the Razorback Range Airspace Complex to permit training in real-world combat tactics. While the ceiling of R-2402, at 30,000 feet MSL, is considered adequate for medium to high altitude weapons employment tactics training scenarios today, the lateral distance from the target area does not support medium to high altitude weapons delivery. Thus, aircrew training that is essential for combat readiness today is limited. This proposal would add two new restricted areas, R-2402B and R-2402C, to provide the vertical and lateral maneuvering airspace needed to practice medium to high altitude standoff weapon delivery profiles. Restricted area R-2402B is proposed to extend approximately five nautical miles to the east and three nautical miles to the south (into Hog High North MOA) of R-2402, from 10,000 feet MSL to FL 220. Restricted area R-2402C is proposed to extend approximately five nautical miles to the east and north of R-2402, from 13,000 feet MSL to FL 220. The proposed restricted areas will be activated when maneuvering airspace is required and cannot be activated without R-2402 being active also. When the proposed R-2402B and R-2402C restricted areas are not required for training requirements, that airspace will be released to Memphis ARTCC for access by nonparticipating aircraft, as appropriate.

Finally, to keep the naming convention of the R-2402 complex standardized, the FAA proposes to change the “R-2402 Fort Chaffee, AR” restricted area name to “R-2402A Fort Chaffee, AR”. To ensure the time of designation of all R-2402 restricted areas in the Razorback Range Airspace Complex are consistent and cannot be misinterpreted, the time of designation information for R-2402 (proposed to become R-2402A) would also change the “Monday through Sunday” currently listed in the legal description to “daily.” The remaining R-2402 legal description information will remain the same when re-published as R-2402A.

Section 73.24 of Title 14 CFR part 73 was republished in FAA Order 7400.8R, effective February 16, 2009.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would restructure the SUA at the Razorback Range Airspace Complex, Fort Chaffee, AR.

Environmental Review

This proposal will be subject to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p.389.

§ 73.24 [Amended]

2. § 73.24 is amended as follows:

* * * * *

R-2402 Fort Chaffee, AR [Removed]

R-2402A Fort Chaffee, AR [New]

Boundaries. Beginning at lat. 35°18′09″ N., long. 94°03′01″ W.; to lat. 35°17′00″ N., long. 94°03′01″ W.; to lat. 35°17′00″ N., long. 94°01′01″ W.; to lat. 35°10′20″ N., long. 94°01′01″ W.; thence west along Arkansas State Highway No. 10 to lat. 35°11′33″ N., long. 94°12′01″ W.; to lat. 35°13′50″ N., long. 94°12′01″ W.; to lat. 35°18′10″ N., long. 94°12′01″ W.; to lat. 35°18′12″ N., long. 94°09′52″ W.; thence east along Arkansas State Highway No. 22 to the point of beginning.

Designated altitudes. Surface to and including 30,000 feet MSL.

Time of designation. Sunrise to sunset, daily; other times by NOTAM.

Controlling agency. FAA, Memphis ARTCC.

Using agency. Commanding General, Fort Chaffee, AR.

* * * * *

R-2402B Fort Chaffee, AR [New]

Boundaries. Beginning at lat. 35°18′26″ N., long. 93°55′41″ W.; thence clockwise along a 7-NM radius circle centered at lat. 35°15′26″ N., long. 94°03′24″ W.; to lat. 35°10′55″ N., long. 94°09′57″ W.; thence east along Arkansas State Highway 10 to lat. 35°10′20″ N., long. 94°01′01″ W.; to lat. 35°17′00″ N., long. 94°01′01″ W.; to lat. 35°17′00″ N., long. 94°03′01″ W.; to lat. 35°18′09″ N., long. 94°03′01″ W.; thence east along Arkansas State Highway 22 to the point of beginning.

Designated altitudes. 10,000 feet MSL to, but not including, FL 220.

Time of designation. Sunrise to sunset, daily; other times by NOTAM.

Controlling agency. FAA, Memphis ARTCC.

Using agency. Arkansas Air National Guard, 188th Fighter Wing, Ft. Smith, AR.

R-2402C Fort Chaffee, AR [New]

Boundaries. Beginning at lat. 35°21′48″ N., long. 94°06′59″ W.; thence clockwise along a 7-NM radius circle centered at lat. 35°15′26″ N., long. 94°03′24″ W.; to lat. 35°18′26″ N., long. 93°55′41″ W.; thence west along Arkansas State Highway 22 to lat. 35°18′12″ N., long. 94°09′52″ W.; to the point of beginning.

Designated altitudes. 13,000 feet MSL to, but not including, FL 220.

Time of designation. Sunrise to sunset, daily; other times by NOTAM.

Controlling agency. FAA, Memphis ARTCC.

Using agency. Arkansas Air National Guard, 188th Fighter Wing, Ft. Smith, AR.

Issued in Washington, DC, on March 19, 2010.
Edith V. Parish,
Manager, Airspace and Rules Group.

[FR Doc. 2010-7075 Filed 3-29-10; 8:45 am]

BILLING CODE 4910-13-P